FEDERAL COMMUNICATIONS COMMISSION

[ DA 15-1343]

Order Declares Wypoint Telecom, Inc.'s International Section 214 Authorization Terminated

AGENCY: Federal Communications Commission

ACTION: Notice.

SUMMARY: In this document, we declare the international section 214 authorization granted to Wypoint Telecom, Inc. (“Wypoint” and formerly known as Sage VOIP Solutions, Inc.) terminated given Wypoint's inability to comply with an express condition for holding the authorization. We also conclude that Wypoint failed to comply with those requirements of the Communications Act of 1934 (the Act) and the Commission's rules that ensure that the Commission can contact and communicate with the authorization holder, which failures have prevented any way of addressing Wypoint's inability to comply with the condition of its authorization.

DATES: November 20, 2015.

FOR FURTHER INFORMATION CONTACT: Cara Grayer, Telecommunications and Analysis Division, International Bureau, at (202) 418-2960 or Cara.Grayer@fcc.gov.

SUPPLEMENTARY INFORMATION: On July 27, 2007, the International Bureau granted Wypoint an international section 214 authorization to provide global or limited global facilities-based service and global or limited global resale service in accordance with sections 63.18(e)(1) and 63.18(e)(2) of the Commission's rules. The International Bureau granted the application on the express condition that Wypoint abide by the commitments and undertakings contained in its Letter of Assurance (LOA) to the U.S. Department of Justice, U.S. Department of Homeland Security, and Federal Bureau of Investigation (collectively, the Agencies) dated July 11, 2007. We determine that Wypoint's section 214 authorization to provide international services issued under File No. ITC-214-20070601-00211 has terminated for Wypoint's inability to comply with an express condition for holding the section 214 international authorization. The International Bureau has afforded Wypoint with notice and opportunity to respond to the allegations in the Executive Branch May 9, 2014 Letter concerning Wypoint's non-compliance with the condition of its grant. Wypoint has not responded to any of our requests or requests from the Agencies. We find that Wypoint's failure to respond to our multiple requests demonstrates that it is unable to satisfy the LOA conditions concerning the availability of U.S. customer records, upon which the Agencies gave their non-objection to the grant of the authorization to Wypoint, and which were a condition of its section 214 authorization.

Furthermore, after having received an international 214 authorization, a carrier “is responsible for the continuing accuracy of the certifications made in its application” and must promptly correct information no longer accurate, “and in any event, within thirty (30) days.” Wypoint's address is no longer valid and thus Wypoint has failed to inform the Commission of any changes in the continuing accuracy of its prior certifications, referencing the FCC file number of the original certification. Nor is there any record of Wypoint's having complied with section 413 of the Act and the Commission's rules requiring it to designate an agent for service after receiving its authorization on July 27, 2007. Finally, as part of its authorization, Wypoint “must file annual international telecommunications traffic and revenue as required by § 43.62.” Section 43.62(b) states that “[n]ot later than July 31 of each year, each person or entity that holds an authorization pursuant to section 214 to provide international telecommunications service shall report whether it provided international telecommunications services during the preceding calendar year.” Our records indicate that Wypoint failed to file an annual international telecommunications traffic and revenue report indicating whether or not Wypoint provided services in 2014, as required by section 43.62(b) of the Commission's rules. In these circumstances, and in light of Wypoint's failure to respond to the Commission's repeated inquiries, we conclude that this failure to comply with the basic requirements of the Commission's rules designed to ensure its ability to communicate with the holder of the authorization also warrants termination, wholly apart from demonstrating Wypoint's inability to satisfy the LOA conditions of its authorization.

By this Order, we grant the Executive Branch agencies' request to the extent set forth in this Order. A copy of this Order was sent by return receipt requested, to Wypoint at its last known addresses.

Further requests should be sent to Denise Coca, Chief, Telecommunications and Analysis Division, International Bureau via email at Denise.Coca@fcc.gov and file it in File No. ITC-214-20121210-00323 via IBFS at http://licensing.fcc.gov/myibfs/pleading.do.

Federal Communications Commission.
Francis Gutierrez,
Deputy Chief, Telecommunications and Analysis Division, International Bureau.

[FR Doc. 2015-33271 Filed 1-5-16; 8:45 am]

BILLING CODE 6712-01-P